DEPARTMENT OF ENERGY

Federal Energy Regulatory Commission

[Project No. 2103-006]

Notice of Application for Transfer of License and Soliciting Comments, Motions To Intervene, and Protests: TCAI Incorporated; Waneta Holdings (US) Inc.

On May 2, 2018, TCAI Incorporated (transferor) and Waneta Holdings (US) Inc. (transferee) filed an application for the transfer of license of the Cedar Creek Project No. 2103. The project is located on Cedar Creek in Stevens County, Washington, and partially occupies Federal lands managed by the U.S. Department of Interior's Bureau of Land Management.

The applicants seek Commission approval to transfer the license for the Cedar Creek Project from the transferor to the transferee.

Applicants Contact: For transferor: Mr. Phil Pesek, Vice president General Counsel & Secretary, TCAI Incorporated, 501 North Riverpoint Blvd., Suite 300, Spokane, WA 99202, Phone: 509-623-4544, Email: Phil.Pesek@teck.com and Ms. Pamela J. Anderson, Perkins Coie LLP, 10885 NE 4th Street, Suite 700, Bellevue, WA 98004-5579, Phone: 425-635-1417, Email: PJAnderson@perkinsscoie.com.

For transferee: Ms. Amy McCallion, Corporate Secretary, British Columbia Hydro and Power Authority, 13th Floor, 333 Dunsmuir St., Vancouver, B.C. V6B 5R3, Canada, Phone: 604-623-4234, Email: amy.mccallion@bchydro.com, Mr. David R. Poe, Bracewell LLP, 2001 M Street NW, Suite 900, Washington, DC 20006, Phone: 202-828-5800, Email: dave.poe@bracewell.com, and Ms. Jessica W. Miller, Bracewell LLP, 2300 Congress Ave., Suite 2300, Austin, TX 78701, Phone: 512-494-3606, Email: Jessica.miller@bracewell.com.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2103-006.

Dated: May 18, 2018.
Kimberly D. Bose,
Secretary.

[FR Doc. 2018-11176 Filed 5-23-18; 8:45 am]

BILLING CODE 6717-01-P